DEPARTMENT OF AGRICULTURE

Submission for OMB Review; Comment Request

May 12, 2005.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Phytosanitary Export Certification.

OMB Control Number: 0579-0052.

Summary of Collection: The Animal & Plant Health Inspection Service (APHIS) among other things provides export certification services to assure other countries that the plants and plant products they receive from the United States are free of plant pests specified by the receiving country. The Federal Plant Pest Act authorizes the Department to carry out this mission. APHIS will collect information using several forms.

Need and Use of the Information: APHIS will use the information collected to locate shipments, guide inspection, and issue a certificate to meet the requirements of the importing country. Failure to provide this information would have an impact on many U.S. exporters who would no longer be able to engage in the business of exporting plants and plant products overseas.

Description of Respondents: Business or other for-profit; Farm; Individual or households; Not-for-profit institutions; Federal Government; State, local or tribal government.

Number of Respondents: 23,225.

Frequency of Responses: Recordkeeping; Reporting: On occasion.

Total Burden Hours: 600,481.

Ruth Brown,
Departmental Information Collection Clearance Officer.

[FR Doc. 05-9843 Filed 5-17-05; 8:45 am]

BILLING CODE 3410-34-P